NUCLEAR REGULATORY COMMISSION

[Docket Nos. 50-250 and 50-251; NRC-2014-0176]

Florida Power & Light Company; Turkey Point Nuclear Generating Units 3 and 4

AGENCY: Nuclear Regulatory Commission.

ACTION: License amendment; issuance, opportunity to request a hearing, and petition for leave to intervene.

SUMMARY: The U.S. Nuclear Regulatory Commission (NRC) approved a request by Florida Power & Light Company (the licensee) for amendments to Renewed Facility Operating License Nos. DPR-31 and DPR-41, issued to the licensee for operation of Turkey Point Nuclear Generating Units 3 and 4 (Turkey Point), located in Miami-Dade County, Florida. The amendments revise the ultimate heat sink (UHS) water temperature limit in the Turkey Point Technical Specifications (TSs) from 100 to 104 degrees Fahrenheit (°F) and revise surveillance requirements for monitoring the UHS temperature and component cooling water (CCW) heat exchangers. The amendments also made editorial changes to the TSs. The Staff finds that the application for the license amendments complies with the requirements of the Atomic Energy Act of 1954, as amended, and the NRC's regulations.

DATES: A requests for a hearing or petition for leave to intervene must be filed by October 14, 2014.

ADDRESSES: Please refer to Docket ID NRC-2014-0176 when contacting the NRC about the availability of information regarding this document. You may obtain publicly-available information related to this document using any of the following methods:

• Federal Rulemaking Web site: Go to http://www.regulations.gov and search for Docket ID NRC-2014-0176. Address questions about NRC dockets to Carol Gallagher; telephone: 301-287-3422; email: Carol.Gallagher@nrc.gov. For technical questions, contact the individual listed in the FOR FURTHER INFORMATION CONTACT section of this document.

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. For the convenience of the reader, the ADAMS accession numbers for each document referenced in this document (if that document is available in ADAMS) are provided in a table in the “Availability of Documents” section of this document.

• NRC's PDR: You may examine and purchase copies of public documents at the NRC's PDR, Room O1-F21, One White Flint North, 11555 Rockville Pike, Rockville, Maryland 20852.

FOR FURTHER INFORMATION CONTACT: Audrey Klett, Office of Nuclear Reactor Regulation, U.S. Nuclear Regulatory Commission, Washington DC 20555-0001; telephone: 301-415-0489, email: Audrey.Klett@nrc.gov.

SUPPLEMENTARY INFORMATION:

I. Introduction

The NRC issued amendments to Renewed Facility Operating License Nos. DPR-31 and DPR-41, issued to Florida Power & Light Company, for operation of the Turkey Point Nuclear Generating Units 3 and 4, located in Miami-Dade County, Florida. The amendments revise the UHS water temperature limit in the Turkey Point TSs from 100 to 104 °F and revise surveillance requirements for monitoring the UHS temperature and CCW heat exchangers. The amendments also made editorial changes to the TSs. The Staff finds that the application for the license amendments complies with the requirements of the Atomic Energy Act of 1954, as amended, and the NRC's regulations. Copies of the Staff's evaluation may be obtained and examined at ADAMS Accession No. ML14199A107.

In its letters dated July 10, and July 17, 2014, the licensee stated that the UHS temperature has approached the current TS limit of 100 °F. The licensee stated that the UHS temperature has been trending higher than historical averages in part because of reduced water levels caused by unseasonably dry weather and because of reduced cooling efficiency caused by an algae bloom of concentrations higher than previously observed. The licensee requested a timely review of its application to avoid a dual unit shutdown that could affect grid reliability. Therefore, the licensee requested that the NRC process the license amendment requests under emergency circumstances in accordance with § 50.91(a)(5) of Title 10 of the Code of Federal Regulations (10 CFR). The Staff considered the circumstances (i.e. the dry weather, UHS temperature, algae concentration, and grid reliability) and found exigent circumstances exist, in that a licensee and the Commission must act quickly and that time does not permit the Commission to publish a Federal Register notice allowing 30 days for prior public comment. The Staff also determined that the amendment involves no significant hazards considerations. Accordingly, pursuant to 10 CFR 50.91(a)(6)(i)(A), the Commission published a notice of an opportunity for hearing and notice for prior public comment on its proposed determination that no significant hazards consideration is involved; the notice was published in the Federal Register on July 30, 2014 (79 FR 44214).

The licensee's supplements dated July 22, July 24, July 26, and July 28, 2014, provided additional information that clarified the application, did not expand the scope of the application as originally noticed, and did not change the NRC staff's original proposed no significant hazards consideration determination as published in the Federal Register on July 30, 2014. However, on July 29, 2014, the licensee supplemented its amendment request with a proposed change that did increase the scope of the request and affected the proposed no significant hazards consideration published in the Federal Register on July 30, 2014. Therefore, after considering the continued exigent circumstances related to the dry weather, UHS temperature, algae concentration, and grid reliability, and pursuant to 10 CFR 50.91(a)(6)(i)(B), the Staff used local media to provide reasonable notice to the public in the area surrounding the licensee's facility of the amendment request and the proposed determination that no significant hazards consideration is involved, and provided a shortened comment period. The licensee's supplement dated August 4, 2014, provided additional information that clarified the application, did not expand the scope of the application as noticed in the newspapers, and did not change the NRC staff's revised proposed no significant hazards consideration determination as published in the newspapers local to the Turkey Point site. No comments have been received.

Because of the unpredictable nature of the dry weather, the UHS temperature, algae concentration, and grid reliability, the NRC determined that the exigent circumstances remain. Therefore, the NRC is issuing the amendments prior to the expiration of the superseded 14-day comment period published in the initial Federal Register notice (FRN) (79 FR 44214, July 30, 2014). No request for a hearing or petition for leave to intervene was filed based on the superseded FRN. To prevent any confusion about the time to request a hearing, which may have been caused by the original (superseded) FRN, the NRC is now resetting the period to request a hearing or petition for leave to intervene.

II. Opportunity To Request a Hearing and Petition for Leave To Intervene

Within 60 days after the date of publication of this Federal Register notice, any person whose interest may be affected by this proceeding and who desires to participate as a party in the proceeding must file a written request for hearing or a petition for leave to intervene specifying the contentions which the person seeks to have litigated in the hearing with respect to the license amendment request. Requests for hearing and petitions for leave to intervene shall be filed in accordance with the NRC's “Agency Rules of Practice and Procedure” in 10 CFR part 2. Interested person(s) should consult a current copy of 10 CFR 2.309, which is available at the NRC's PDR. The NRC's regulations are accessible electronically from the NRC Library on the NRC's Web site at http://www.nrc.gov/reading-rm/doc-collections/cfr/.

As required by 10 CFR 2.309, a request for hearing or petition for leave to intervene must set forth with particularity the interest of the petitioner in the proceeding and how that interest may be affected by the results of the proceeding. A request for hearing or petition for leave to intervene must state: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest.

For each contention, the requestor/petitioner must provide a specific statement of the issue of law or fact to be raised or controverted, as well as a brief explanation of the basis for the contention. Additionally, the requestor/petitioner must demonstrate that the issue raised by each contention is within the scope of the proceeding and is material to the findings that the NRC must make to support the granting of a license amendment in response to the application. The hearing request or petition must also include a concise statement of the alleged facts or expert opinion that support the contention and on which the requestor/petitioner intends to rely at the hearing, together with references to those specific sources and documents. The hearing request or petition must provide sufficient information to show that a genuine dispute exists with the applicant on a material issue of law or fact, including references to specific portions of the application for amendment that the petitioner disputes and the supporting reasons for each dispute. If the requestor/petitioner believes that the application for amendment fails to contain information on a relevant matter as required by law, the requestor/petitioner must identify each failure and the supporting reasons for the requestor's/petitioner's belief. Each contention must be one which, if proven, would entitle the requestor/petitioner to relief. A requestor/petitioner who does not satisfy these requirements for at least one contention will not be permitted to participate as a party.

Those permitted to intervene become parties to the proceeding, subject to any limitations in the order granting leave to intervene, and have the opportunity to participate fully in the conduct of the hearing with respect to resolution of that person's admitted contentions, including the opportunity to present evidence and to submit a cross-examination plan for cross-examination of witnesses, consistent with NRC regulations, policies, and procedures. The Atomic Safety and Licensing Board will set the time and place for any prehearing conferences and evidentiary hearings, and the appropriate notices will be provided.

Hearing requests or petitions for leave to intervene must be filed no later than 60 days from the date of publication of this notice. Requests for hearing, petitions for leave to intervene, and motions for leave to file new or amended contentions that are filed after the 60-day deadline will not be entertained absent a determination by the presiding officer that the filing demonstrates good cause by satisfying the three factors in 10 CFR 2.309(c)(1)(i)-(iii).

III. Electronic Submissions (E-Filing)

All documents filed in NRC adjudicatory proceedings, including a request for hearing, a petition for leave to intervene, any motion or other document filed in the proceeding prior to the submission of a request for hearing or petition to intervene, and documents filed by interested governmental entities participating under 10 CFR 2.315(c), must be filed in accordance with the NRC's E-Filing rule (72 FR 49139; August 28, 2007). The E-Filing process requires participants to submit and serve all adjudicatory documents over the internet, or in some cases to mail copies on electronic storage media. Participants may not submit paper copies of their filings unless they seek an exemption in accordance with the procedures described below.

To comply with the procedural requirements of E-Filing, at least ten 10 days prior to the filing deadline, the participant should contact the Office of the Secretary by email at hearing.docket@nrc.gov, or by telephone at 301-415-1677, to request (1) a digital identification (ID) certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on the NRC's public Web site at http://www.nrc.gov/site-help/e-submittals/getting-started.html. System requirements for accessing the E-Submittal server are detailed in the NRC's “Guidance for Electronic Submission,” which is available on the agency's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through the Electronic Information Exchange System, users will be required to install a Web browser plug-in from the NRC's Web site. Further information on the Web-based submission form, including the installation of the Web browser plug-in, is available on the NRC's public Web site at http://www.nrc.gov/site-help/e-submittals.html.

Once a participant has obtained a digital ID certificate and a docket has been created, the participant can then submit a request for hearing or petition for leave to intervene. Submissions should be in Portable Document Format (PDF) in accordance with NRC guidance available on the NRC's public Web site at http://www.nrc.gov/site-help/e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the NRC's adjudicatory E-Filing system may seek assistance by contacting the NRC Meta System Help Desk through the “Contact Us” link located on the NRC's public Web site at http://www.nrc.gov/site-help/e-submittals.html, by email to MSHD.Resource@nrc.gov, or by a toll-free call at 1-866-672-7640. The NRC Meta System Help Desk is available between 8 a.m. and 8 p.m., Eastern Time, Monday through Friday, excluding government holidays.

Participants who believe that they have a good cause for not submitting documents electronically must file an exemption request, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland, 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at http://ehd1.nrc.gov/ehd/, unless excluded pursuant to an order of the Commission, or the presiding officer. Participants are requested not to include personal privacy information, such as social security numbers, home addresses, or home phone numbers in their filings, unless an NRC regulation or other law requires submission of such information. However, a request to intervene will require including information on local residence in order to demonstrate a proximity assertion of interest in the proceeding. With respect to copyrighted works, except for limited excerpts that serve the purpose of the adjudicatory filings and would constitute a Fair Use application, participants are requested not to include copyrighted materials in their submission.

IV. Availability of Documents

The following table identifies the documents cited in this document and related to the issuance of the amendments. These documents are available for public inspection online through ADAMS at http://www.nrc.gov/reading-rm/adams.html or in person at the NRC's PDR as described previously.

Document | Adams accession No.
U.S. Nuclear Regulatory Commission:
Turkey Point Nuclear Plant, Units 3 and 4—UHS Amendment. Dated August 8, 2014 | ML14199A107
Florida Power & Light Company:
License Amendment Request No. 231, Application to Revise Technical Specifications to Revise Ultimate Heat Sink Temperature Limit. Dated July 10, 2014 | ML14196A006
Florida Power & Light Company:
License Amendment Request No. 231, Application to Revise Ultimate Heat Sink Temperature Limit—Request for Emergency Approval. Dated July 17, 2014 | ML14202A392
Florida Power & Light Company:
License Amendment Request No. 231, Application to Revise Ultimate Heat Sink Temperature Limit—Supplement 1, and Response to Request for Additional Information. Dated July 22, 2014 | ML14204A367
Florida Power & Light Company:
Response to Request for Additional Information Regarding License Amendment Request No. 231, Application to Revise Technical Specifications to Revise Ultimate Heat Sink Temperature Limit. Dated July 22, 2014 | ML14204A368
Florida Power & Light Company:
Response to Containment and Ventilation Branch Request for Additional Information, Regarding License Amendment Request No. 231, Application to Revise Ultimate Heat Temperature Limit. Dated July 24, 2014 | ML14206A853
Florida Power & Light Company:
Response to Request for Additional Information Regarding License Amendment Request No. 231, Application to Revise Technical Specifications to Revise Ultimate Heat Sink Temperature Limit. Dated July 26, 2014 | ML14210A374
Florida Power & Light Company:
Response to Request for Additional Information Regarding License Amendment Request No. 231, Application to Revise Technical Specifications to Revise Ultimate Heat Sink Temperature Limit. Dated July 28, 2014 | ML14211A507
Florida Power & Light Company:
License Amendment Request No. 231, Application to Revise Ultimate Heat Sink Temperature Limit—Supplement 2, and Response to Request for Additional Information (RAI-5 and BOP RAIs 5 and 5.1) Dated July 29, 2014 | ML14211A508
Florida Power & Light Company:
Response to Containment and Ventilation Branch Request for Additional Information (RAI-5), Regarding License Amendment Request No. 231, Application to Revise Ultimate Heat Sink Temperature Limit Dated August 4, 2014 | ML14217A341
U.S. Nuclear Regulatory Commission:
Turkey Point 3 and 4 Request for Additional Information—LAR231 (TAC MF4392 and MF4393). [1 of 2] Dated July 18, 2014 | ML14203A614
U.S. Nuclear Regulatory Commission:
Turkey Point 3 and 4 Request for Additional Information—LAR231 (TAC MF4392 and MF4393). [2 of 2] Dated July 18, 2014 | ML14203A618
U.S. Nuclear Regulatory Commission:
Turkey Point 3 and 4 Request for Additional Information—LAR231 (TAC MF4392 and MF4393). Dated July 21, 2014 | ML14203A620
U.S. Nuclear Regulatory Commission:
Turkey Point 3 and 4 Request for Additional Information—LAR231 (TAC MF4392 and MF4393). Dated July 22, 2014 | ML14204A814
U.S. Nuclear Regulatory Commission:
Turkey Point 3 and 4 Request for Additional Information—LAR231 (TAC MF4392 and MF4393). Dated July 25, 2014 | ML14208A010
U.S. Nuclear Regulatory Commission:
Turkey Point 3 and 4 Request for Additional Information—LAR231 (TAC MF4392 and MF4393). Dated July 26, 2014 | ML14208A011
U.S. Nuclear Regulatory Commission:
Turkey Point 3 and 4 Request for Additional Information—LAR231 (TAC MF4392 and MF4393). Dated July 28, 2014 | ML14216A072
U.S. Nuclear Regulatory Commission:
Turkey Point 3 and 4 Request for Additional Information—LAR231 (TAC MF4392 and MF4393). Dated August 3, 2014 | ML14217A004
U.S. Nuclear Regulatory Commission:
Turkey Point Nuclear Generating Unit Nos. 3 and 4—Individual Notice of Consideration of Issuance of Amendments to Renewed Facility Operating Licenses, Proposed No Significant Hazards Consideration Determination, and Opportunity for Hearing (Exigent Circumstances) (TAC Nos. MF4392 and MF4293). Dated July 24, 2014 | ML14204A129 * ML14199A111 **
U.S. Nuclear Regulatory Commission:
Public Notice NRC Staff Proposes to Amend Renewed Facility Operating Licenses at the Turkey Point Nuclear Generating Unit Nos. 3 and 4. Dated July 31, 2014 | ML14211A266
U.S. Nuclear Regulatory Commission:
Turkey Point, Units 3 and 4, Environmental Assessment and Finding of No Significant Impact Related to the Ultimate Heat Sink Temperature Limit (TAC NOS. MF4392 and MF4393). Dated July 28, 2014 | ML14209A031 * ML14205A548 **
* Letter.
** Enclosure.

Dated at Rockville, Maryland, this 8th day of August 2014.
For the Nuclear Regulatory Commission.
Lisa M. Regner,
Acting Chief, Plant Licensing Branch II-2, Division of Operating Reactor Licensing, Office of Nuclear Reactor Regulation.

[FR Doc. 2014-19282 Filed 8-13-14; 8:45 am]

BILLING CODE 7590-01-P